DEPARTMENT OF AGRICULTURE

Grain Inspection, Packers and Stockyards Administration

Designation for the Montana Area

AGENCY: Grain Inspection, Packers and Stockyards Administration (GIPSA), USDA.

ACTION: Notice of designation.

SUMMARY: GIPSA is announcing the designation of the Montana Department of Agriculture (Montana) to provide official services under the United States Grain Standards Act (USGSA), as amended.

DATES: July 1, 2017.

ADDRESSES: Jacob Thein, Compliance Officer, USDA, GIPSA, FGIS, QACD, 10383 North Ambassador Drive, Kansas City, MO 64153.

FOR FURTHER INFORMATION CONTACT: Jacob Thein, 816-866-2223, Jacob.D.Thein@usda.gov or FGIS.QACD@usda.gov.

Read Applications: All applications and comments are available for public inspection at the office above during regular business hours (7 CFR 1.27(c)).

SUPPLEMENTARY INFORMATION: In the April 17, 2017, Federal Register (82 FR 18100), GIPSA requested applications for designation to provide official services in the geographic areas presently serviced by Montana. Applications were due by May 17, 2017.

The current official agency, Montana, was the only applicant for designation to provide official services in these areas. As a result, GIPSA did not ask for additional comments.

GIPSA evaluated the designation criteria in section 7(f) of the USGSA (7 U.S.C. 79(f)) and determined that Montana is qualified to provide official services in the geographic area specified in the Federal Register on April 17, 2017. This designation to provide official services in the specified area of Montana is effective July 1, 2017, to June 30, 2022.

Interested persons may obtain official services by contacting this agency at the following telephone number:

Official agency | Headquarters location and telephone | Designation start | Designation end
Montana | Great Falls, MT, 406-444-3144 | 7/1/2017 | 6/30/2022

Section 7(f) of the USGSA authorizes the Secretary to designate a qualified applicant to provide official services in a specified area after determining that the applicant is better able than any other applicant to provide such official services (7 U.S.C. 79(f)).

Randall D. Jones,
Acting Administrator, Grain Inspection, Packers and Stockyards Administration.

[FR Doc. 2017-18634 Filed 9-1-17; 8:45 am]

BILLING CODE 3410-KD-P